JUSTICE DEPARTMENT

Drug Enforcement Administration

[Docket No. DEA-392]

Manufacturer of Controlled Substances Registration: Alltech Associates, Inc.

ACTION: Notice of registration.

SUMMARY: Alltech Associates, Inc., applied to be registered as a manufacturer of certain basic classes of controlled substances. The DEA grants Alltech Associates, Inc. registration as a manufacturer of those controlled substances.

SUPPLEMENTARY INFORMATION: By notice dated May 2, 2014, and published in the Federal Register on May 15, 2014, 79 FR 27936, Alltech Associates, Inc., 2051 Waukegan Road, Deerfield, Illinois 60015, applied to be registered as a manufacturer of certain basic classes of controlled substances. No comments or objections were submitted to this notice.

The Drug Enforcement Administration (DEA) has considered the factors in 21 U.S.C. 823(a) and determined that the registration of Alltech Associates, Inc., to manufacture the basic classes of controlled substances is consistent with the public interest and with United States obligations under international treaties, conventions, or protocols in effect on May 1, 1971. The DEA investigated the company's maintenance of effective controls against diversion by inspecting and testing the company's physical security systems, verified the company's compliance with state and local laws, and reviewed the company's background and history.

Therefore, pursuant to 21 U.S.C. 823(a), and in accordance with 21 CFR 1301.33, the above-named company is granted registration as a bulk manufacturer of the basic classes of controlled substances listed:-

Controlled substance | Schedule
Methcathinone (1237) | I
N-Ethylamphetamine (1475) | I
N,N-Dimethylamphetamine (1480) | I
4-Methylaminorex (cis isomer) (1590) | I
Gamma Hydroxybutyric Acid (2010) | I
Alpha-ethyltryptamine (7249) | I
Lysergic acid diethylamide (7315) | I
2C-T-7 (2,5-Dimethoxy-4-(n)-propylthiophenethylamine) (7348) | I
Tetrahydrocannabinols (7370) | I
Mescaline (7381) | I
2C-T-2 (2-(4-Ethylthio-2,5-dimethoxyphenyl)ethanamine) (7385) | I
4-Bromo-2,5-dimethoxyamphetamine (7391) | I
4-Bromo-2,5-dimethoxyphenethylamine (7392) | I
4-Methyl-2,5-dimethoxyamphetamine (7395) | I
2,5-Dimethoxyamphetamine (7396) | I
2,5-Dimethoxy-4-ethylamphetamine (7399) | I
3,4-Methylenedioxyamphetamine (7400) | I
N-Hydroxy-3,4-methylenedioxyamphetamine (7402) | I
3,4-Methylenedioxy-N-ethylam-phetamine (7404) | I
3,4-Methylenedioxymetham-phetamine (7405) | I
4-Methoxyamphetamine (7411) | I
5-Methoxy-N-N-dimethyltryptamine (7431) | I
Alpha-methyltryptamine (7432) | I
Bufotenine (7433) | I
Diethyltryptamine (7434) | I
Dimethyltryptamine (7435) | I
Psilocybin (7437) | I
Psilocyn (7438) | I
5-Methoxy-N,N-diisopropyltryptamine (7439) | I
N-Ethyl-1-phenylcyclohexylamine (7455) | I
1-(1-Phenylcyclohexyl)pyrrolidine (7458) | I
1-[1-(2-Thienyl)cyclohexyl]piperidine (7470) | I
2C-E (2-(2,5-Dimethoxy-4-ethylphenyl)ethanamine) (7509) | I
2C-H (2-(2,5-Dimethoxyphenyl)ethanamine) (7517) | I
2C-I (2-(4-lodo-2,5-dimethoxyphenyl)ethanamine) (7518)
2C-C (2-(4-Chloro-2,5-dimethoxyphenyl)ethanamine (7519) | I
2C-T-4 (2-(4-Isopropylthio)-2,5-dimethoxyphenyl)ethanamine) (7532) | I
Dihydromorphine (9145) | I
Heroin (9200) | I
Normorphine (9313) | I
Methamphetamine (1105) | II
1-Phenylcyclohexylamine (7460) | II
Phencyclidine (7471) | II
Phenylacetone (8501) | II
1-Piperidinocyclohexanecarbonitrile (8603) | II
Cocaine (9041) | II
Codeine (9050) | II
Dihydrocodeine (9120) | II
Ecgonine (9180) | II
Meperidine intermediate-B (9233) | II
Morphine (9300) | II
Noroxymorphone (9668) | II

The company plans to manufacture high purity drug standards used for analytical applications only in clinical, toxicological, and forensic laboratories, and for distribution to its customers.

Dated: October 23, 2014.
Joseph T. Rannazzisi,
Deputy Assistant Administrator.

[FR Doc. 2014-26448 Filed 11-6-14; 8:45 am]

BILLING CODE 4410-09-P